DEPARTMENT OF ENERGY

[Docket Nos. EA-273]

Application To Export Electric Energy; Rainy River Energy Corporation

AGENCY: Office of Fossil Energy, DOE.

ACTION: Notice of application.

SUMMARY: Rainy River Energy Corporation (Rainy River) has applied to export electric energy from the United States to Canada pursuant to section 202(e) of the Federal Power Act for a period of two years.

DATES: Comments, protests or requests to intervene must be submitted on or before January 27, 2003.

ADDRESSES: Comments, protests or requests to intervene should be addressed as follows: Office of Coal & Power Import/Export (FE-27), Office of Fossil Energy, U.S. Department of Energy, 1000 Independence Avenue, SW., Washington, DC 20585-0350 (FAX 202-287-5736).

FOR FURTHER INFORMATION CONTACT: Steven Mintz (Program Office) 202-586-9506 or Michael Skinker (Program Attorney) 202-586-2793.

SUPPLEMENTARY INFORMATION: Exports of electricity from the United States to a foreign country are regulated and require authorization under section 202(e) of the Federal Power Act (FPA) (16 U.S.C. § 824a(e)).

On November 25, 2002, Rainy River applied to the Office of Fossil Energy, of the Department of Energy (DOE), for authority to export electric energy, on its own behalf, from the United States to Canada. Rainy River, a Minnesota corporation, is engaged in the marketing of electric power at wholesale. Rainy River will purchase the power to be exported from electric utilities and Federal power marketing agencies as defined in Sections 3(22) and (19)(16 U.S.C. Section 796 (22) and (19)) of the FPA.

In FE Docket No. EA-273, Rainy River proposes to export electric energy to Canada and to arrange for the delivery of those exports to Canada over the international transmission facilities presently owned by Minnesota Power, Basin Electric Power Cooperative, Bonneville Power Administration, Citizens Utilities, Eastern Maine Electric Cooperative, International Transmission Co., Joint Owners of the Highgate Project, Long Sault, Inc., Maine Electric Power Company, Maine Public Service Company, Minnkota Power Cooperative, Inc., New York Power Authority, Niagara Mohawk Power Corp., Northern States Power Company and Vermont Electric Transmission Company.

The construction of each of the international transmission facilities to be utilized by Rainy River has previously been authorized by a Presidential permit issued pursuant to Executive Order 10485, as amended.

Procedural Matters: Any person desiring to become a party to this proceeding or to be heard by filing comments or protests to this application should file a petition to intervene, comment or protest at the address provided above in accordance with §§ 385.211 or 385.214 of the FERC's Rules of Practice and Procedures (18 CFR 385.211, 385.214). Fifteen copies of each petition and protest should be filed with the DOE on or before the date listed above.

Comments on the Rainy River application to export electric energy to Canada should be clearly marked with Docket EA-273. Additional copies are to be filed directly with Steven W. Tyacke, Esq., Rainy River Energy Corporation, 30 West Superior Street, Duluth, MN 55802.

A final decision will be made on this application after the environmental impact has been evaluated pursuant to the National Environmental Policy Act of 1969, and a determination is made by the DOE that the proposed action will not adversely impact on the reliability of the U.S. electric power supply system.

Copies of this application will be made available, upon request, for public inspection and copying at the address provided above or by accessing the Fossil Energy Home Page at http://www.fe.doe.gov. Upon reaching the Fossil Energy Home page, select “Regulatory” Programs,” then “Electricity Regulation,” and then “Pending Proceedings” from the options menus.

Issued in Washington, DC, on December 17, 2002.
Anthony Como,
Deputy Director, Electric Power Regulation, Office of Coal & Power Import/Export, Office of Coal & Power Systems, Office of Fossil Energy.

[FR Doc. 02-32537 Filed 12-24-02; 8:45 am]

BILLING CODE 6450-01-P